DEPARTMENT OF HOMELAND SECURITY

Federal Emergency Management Agency

Agency Information Collection Activities: Proposed Collection; Comment Request

AGENCY: Federal Emergency Management Agency, Emergency Preparedness and Response Directorate, Department of Homeland Security.

ACTION: Notice and request for comments.

SUMMARY: The Federal Emergency Management Agency, as part of its continuing effort to reduce paperwork and respondent burden, invites the general public and other Federal agencies to take this opportunity to comment on proposed continuing information collections. In accordance with the Paperwork Reduction Act of 1995 (44 U.S.C. 3506(c)(2)(A)), this notice seeks comments concerning the information collection outlined in 44 CFR Part 61, as it pertains to application for National Flood Insurance Program (NFIP) insurance.

SUPPLEMENTARY INFORMATION: The National Flood Insurance Program (NFIP) is authorized by Public Law 90-448 (1968) and expanded by Public Law 93-234 (1973). The National Flood Insurance Act of 1968 requires that the Federal Emergency Management Agency (FEMA) provide flood insurance at full actuarial rates reflecting the complete flood risk to structures built or substantially improved on or after the effective date for the initial Flood Insurance Rate Map (FIRM) for the community, or after December 31, 1974, whichever is later, so that the risks associated with buildings in flood-prone areas are borne by those located in such areas and not by the taxpayers at large. In accordance with Public Law 93-234, the purchase of flood insurance is mandatory when Federal or federally related financial assistance is being provided for acquisition or construction of buildings located, or to be located, within FEMA-identified special flood hazard areas of communities that are participating in the NFIP. When flood damage occurs to insured property, information is collected to report, investigate, negotiate and settle the claim.

Collection of Information

Title: National Flood Insurance Program Claims Forms.

Type of Information Collection: Revision of a currently approved collection.

OMB Number: 1660-0005.

Form Numbers: 81-40 (Worksheet-Contents-Personal Property), 81-41 (Worksheet-Building), 81-41A (Worksheet-Building Continued), 81-42 (Proof of Loss), 81-42A (Increased Cost of Compliance Proof of Loss), 81-43 (Notice of Loss), 81-44 (Statement as to Full Cost to Repair or Replacement Cost Coverage, Subject to the Terms and Conditions of this Policy), 81-57 (National Flood Insurance Program Preliminary Report), 81-58 (National Flood Insurance Program Final Report), 81-59 (National Flood Insurance Program Narrative Report), 81-63 (Cause of Loss and Subrogation Report), 81-96 (Mobile Home Worksheet), 81-98 (Increased Cost of Compliance (ICC) Adjuster Report), 81-109 (Adjuster Preliminary Damage Assessment), 81-110 (Adjuster Certification Application).

Abstract: In order to document and pay claims made against the National Flood Insurance Program Direct Business this information is collected and reviewed as part of the claims handling process by the servicing company under contract to FEMA.

Affected Public: Individuals or households; Business or other for-profit; Not-for-profit institutions; Farms; Federal Government; State, Local or Tribal Government.

Estimated Total Annual Burden Hours: 19,605.

Number of Respondents: 5,000.

Frequency of Response: On occasion, dependent on weather and related flooding conditions.

Estimated Hours Per Respondent: The average time required for the adjuster for each claim filed and the policyholder to list the items damaged in the flood and meet with the adjuster concerning the loss is estimated to be 4 hours. Burden hours are derived from the reports of the Adjusters who meet with the policyholders, from local community officials, and from DHS-FEMA staff's personal experience.

Estimated Total Cost to Respondents: $405,412.00.

Estimated Total Cost to the Government: The adjusters are paid from a fee schedule based on the gross amount of the claim. The average adjuster payment was $500.00 per claim. The number of claims annually varies with the weather and related flooding conditions. We estimate 5,000 claims, which provides, reimbursements to adjusters for expenses incurred in accordance with NFIP standards to evaluate the loss and obtain a proof of loss signed by the claimant, of approximately $2,500,000.00. All these costs are paid by the National Flood Insurance Program and by the government.

Comments: Written comments are solicited to (a) Evaluate whether the proposed data collection is necessary for the proper performance of the agency, including whether the information shall have practical utility; (b) evaluate the accuracy of the agency's estimate of the burden of the proposed collection of information, including the validity of the methodology and assumptions used; (c) evaluate the accuracy of the estimated costs to respondents to provide the information to the agency; (d) enhance the quality, utility, and clarity of the information to be collected; and (e) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Branch, Federal Emergency Management Agency, 500 C Street, SW., Room 316, Washington, DC 20472, or e-mail address: Muriel.Anderson@dhs.gov, or facsimile number (202) 646-3524.

FOR FURTHER INFORMATION CONTACT: For additional information contact James S.P. Shortley, Director of Claims, Mitigation Division, Risk Insurance Branch at (202) 646-3418. Contact Ms. Anderson for copies of the proposed collection of information.

Dated: December 9, 2003.
Edward W. Kernan,
Division Director, Information Resources Management Division, Information Technology Services Directorate.

[FR Doc. 03-30990 Filed 12-15-03; 8:45 am]

BILLING CODE 9110-11-P